DEPARTMENT OF STATE

22 CFR Parts 22 and 51

[Public Notice 4016]

Schedule of Fees for Consular Services, Department of State and Overseas Embassies and Consulates

AGENCY: Department of State.

ACTION: Final rule.

SUMMARY: This rule adopts as final the Department's proposed rule to revise the Schedule of Fees for Consular Services. No comments were received during the period for public comment. The proposed rule is therefore adopted as final. The rule also made appropriate implementing and other related changes in affected portions set forth in these regulations. Specifically, the proposed rule made changes in the Schedule of Fees for Consular Services (“Schedule of Fees” or “Schedule”) and made technical changes concerning passport fees. The primary objective of the adjustments to the Schedule of Fees is to ensure that the costs of consular services are recovered through user fees to the maximum extent appropriate and permitted by law. As a result of new data on the cost of services, most fees are being increased. The proposed Schedule lowers the notarial fee by shifting some of the costs of this service to appropriations. In addition, the Schedule of Fees is being restructured and streamlined, making the Schedule easier to read and understand. Some services have been removed from the Schedule; in most cases, this is because services have been consolidated. Certain consular services performed for no fee are included in the Schedule so that members of the public will be aware of significant consular services provided by the Department that they may request and for which they will not be charged. Codes are being added to the Schedule to facilitate consular officers' use of the Department's consular accounting codes when the fees are actually collected.

EFFECTIVE DATE: June 1, 2002.

ADDRESSES: Office of the Executive Director, Bureau of Consular Affairs, Department of State, Suite H1004, 2401 E Street NW., Washington, DC 20520. 20520.

FOR FURTHER INFORMATION CONTACT: Susan Abeyta, Office of the Executive Director, Bureau of Consular Affairs, phone (202) 663-2505, telefax: (202) 663-2499; e-mail: fees@state.gov.

SUPPLEMENTARY INFORMATION:

Background

The majority of the Department of State's consular fees are established pursuant to the general user charges statute, 31 U.S.C. 9701, and/or U.S.C. 4219, which, as implemented through Executive Order 10718 of June 27, 1957, authorizes the Secretary of State to establish fees to be charged for official services provided by embassies and consulates. Fees established under these authorities include fees for immigrant and nonimmigrant visa processing, for fingerprints, and for overseas citizens services. In addition, a number of statutes address specific fees: Passport application fees (including the cost of passport issuance and use) are authorized by 22 U.S.C. 214, as are fees for the execution of passport applications. (This provision was amended on November 29, 1999, by Public Law 106-113, to permit collection of a nonrefundable application fee subject to promulgation of implementing regulations, which are at 22 CFR parts 51 and 53.) Section 636 of the Illegal Immigration Reform and Immigrant Responsibility Act of 1996, Public Law 104-208, 110 Stat. 3009-703-704 (Sept. 30, 1996), authorizes establishment of a diversity visa application fee to recover the full costs of the visa lottery conducted pursuant to Sections 203 and 222 of the Immigration and Nationality Act (“INA”), 8 U.S.C. 1153, 1202. Nonimmigrant visa reciprocity fees are authorized and, in fact, generally required, pursuant to Section 281 of the INA, 8 U.S.C. 1351. Notwithstanding the general rule of reciprocity, however, a cost-based, nonimmigrant visa processing fee for the machine readable visa (MRV) and for a combined border crossing and nonimmigrant visa card (BCC) (22 CFR 41.32) is authorized by Section 140(a) of the Foreign Relations Authorization Act, Fiscal Years 1994 and 1995, Public Law 103-236 (April 30, 1994). Certain persons are exempted by law or regulation from payment of specific fees. These exemptions are noted in the fee schedule and include the nonimmigrant visa fee exemptions set forth in 22 CFR 41.107 for certain individuals who engage in charitable activities or who qualify for diplomatic visas. In addition, aliens under age 15 are in certain circumstances entitled to a combined MRV/BCC for a statutorily established fee of $13, which is below the full cost of service, pursuant to Section 410 of Title III of the Commerce, Justice, State Appropriations Act enacted as part of the Omnibus FY 1999 Appropriations Act, Public Law 105-277 (Oct. 21, 1998). Various statutes also permit the Department to retain some of the consular fees it collects. These are, at present, the MRV and BCC fees, the passport expedite fee, the fingerprint fee, the J Visa Waiver fee, and the Diversity Visa Lottery fee. Authority to retain the Affidavit of Support fee has existed in the past and may be renewed.

With the exception of nonimmigrant visa reciprocity fees, which are established based on the practices of other countries, all consular fees are established on a basis of cost and in a manner consistent with general user charges principles, regardless of the specific statutory authority under which they are promulgated. As set forth in OMB Circular A-25, the general policy underlying user charges is that a reasonable charge should be made to each identifiable recipient for a measurable unit or amount of government service or property from which the user derives a special benefit. The OMB guidance covers all Federal Government activities that convey special benefits to recipients beyond those that accrue to the general public. The Department of State is required to review consular fees periodically to determine the appropriateness of each fee in light of applicable provisions of OMB Circular A-25. While services of direct benefit to individuals, organizations or groups should be paid for by the users rather than by taxpayers in general, the guidelines state that services performed for the primary benefit of the general public or the U.S. Government should be supported by tax revenues. The changes set forth in the proposed Schedule of Fees reflect these guidelines.

The last major revision of the Schedule of Fees was in 1998. Consistent with OMB Circular A-25, from September 1999 to October 2001, the Department conducted a cost-of-service study to determine the current direct and indirect costs associated with each consular service the Department provides, so that the Schedule could be updated. The study was supervised by the Bureau of Consular Affairs and performed with the assistance of an independent contractor. The contractor and Department staff surveyed and visited domestic and overseas consular sites handling a representative sample of all consular services worldwide in FY 2000. This review attempted to identify the fully allocated costs of consular services (direct and indirect). The results of the review indicated that a fee established on the basis of the average cost of a consular officer's time should be $235 per hour. This hourly rate is used in the proposed schedule to recover the cost of services that are infrequently provided and that may require very different expenditures of time depending on the unique circumstances of the service, such as providing a certificate of American ownership for a yacht, a service that directly benefits an individual. In situations where services are provided often enough to develop a reliable estimate of the average time involved, however, the schedule generally sets a flat service fee. In either case, the fee is designed to recover some or all—but not more than—actual fully allocated costs the Department expects to incur over the period that the Schedule will be in effect. When the fee is set below costs, the remaining cost is either recovered through allocation to related services for which are fees charged, or will be covered by taxpayers through appropriations. (Detailed information concerning the methodology of the study is available from the Bureau of Consular Affairs.) Based on this effort and subsequent analysis, the Department is now proposing adjustments to the Schedule of Fees. Major changes to the schedule are discussed below.

Passport Execution and Processing Fees (Implementation August 19, 2002)

Passport fees for execution and application services (“execution” and “issuance” fees, under the current Schedule) have been raised. The $30 (currently $15) execution fee for first-time applicants and others who must apply in person covers all costs associated with providing this service, both domestically and abroad. It is retained by non-Department acceptance agencies when such agencies are used. One passport application fee will be charged for each first-time and each renewal application: $55 for applicants age 16 or over and $40 for applicants under 16. Although the processing and issuance of a child's passport is more labor-intensive and therefore more costly, the shorter, five-year validity of a child's passport is the basis for charging the lower, $40 fee. A revision of 22 CFR 51.61 is included in this rule to reflect the elimination of different passport application fees for first-time and renewal applications and the requirement that the execution fee be paid at the time of application rather than issuance.

The new passport fees will fully recover the cost of domestic and overseas passport application processing. In addition, consistent with long-standing Department practice, the fee will recover the cost of all emergency citizens services performed abroad, including assistance to U.S. citizens in cases of arrest, detention, death, serious illness or accident abroad. Also covered are the costs of certain non-emergency citizens services such as passport amendments and the voluntary registration of U.S. citizens at posts abroad.

Passport Expedite Fee (Implementation August 19, 2002)

The Schedule increases the passport expedite fee from $35 to $60. This fee pays for all of the additional costs associated with expediting the processing and issuance of an applicant's passport at a U.S. Passport Agency, so that the applicant can receive a passport in three days or less, instead of a domestic timeframe of approximately five weeks for mail-in applications that are not expedited. No overseas costs have been included in the fee for this service as the fee is not charged abroad, where the smaller volume of passport applications and other factors allow the Department's posts generally to act on all passport applications in three days or less, eliminating the need to differentiate between standards of service.

File Search and Verification of U.S. Citizenship (Implementation August 19, 2002)

The $45 fee for this service has been held below cost because it is almost always associated with a passport application. Remaining costs have been allocated to the passport application, both adult and minor.

Adjudication of Citizenship for Undocumented Passport Applicants Born Abroad

This item has been eliminated from the Schedule because the fee was reduced from $100 to 0, effective March 30, 2001, by Public Notice 3625, Federal Register, March 30, 2001 (66 FR 17360), for the reasons explained therein.

Report of Birth

The Schedule increases the application fee for a Report of Birth of a U.S. Citizen Abroad from $40 to $65. The actual cost of performing the service is considerably higher, especially when the parents have lived abroad for long periods of time and their prior residency in the United States must be confirmed if their ability to transmit citizenship to their children is subject to a residency transmission requirement. It is in the U.S. Government's interest, however, to have U.S. citizens documented as early as possible. Keeping the fee below cost is intended to ensure that the fee itself does not serve as a disincentive to having young children documented as U.S. citizens. Remaining costs have been allocated to the passport application, both adult and minor. Fees for duplicate copies of Reports of Birth will be charged as presented in the Schedule under Documentary Services.

Overseas Citizens Services

The primary responsibility of U.S. consular officers abroad is the protection and welfare of U.S. citizens. No-fee services performed in instances of arrests, missing persons, child custody inquiries and destitution (requiring repatriation and/or emergency dietary assistance loans) are listed on the Schedule for the information of the U.S. citizen traveler. As noted in the discussion of the passport fee, the costs for these services will continue to be allocated to the passport fee, consistent with long-standing Department practice. This ensures that any U.S. citizen traveling abroad may obtain emergency consular services without regard to ability to pay for the actual services rendered.

Death and Estate Services

No-fee services provided to the next-of-kin after the death of a U.S. citizen abroad have been consolidated under one item. The costs of these services are allocated to the passport fee.

The $235 hourly rate for consular time plus costs incurred will be charged for making arrangements for a deceased non-U.S. citizen family member. It replaces the current $700 flat fee for assistance in arranging transshipment of a foreign national's remains and in providing related documentary services. Assistance in the case of a non-U.S. citizen's death is provided only under special circumstances, e.g., when a U.S. citizen relative requires assistance or no representative of the deceased's country of nationality is present to render assistance. The Schedule sets a $60 fee for the issuance of a Consular Mortuary Certificate on behalf of a non-U.S. citizen, based on the average time required to prepare the document.

The Schedule combines all estate services for U.S. citizens under a single item. Consular officers have authority to take possession of and inventory estates and to oversee the final disposition of estates of U.S. citizens who die abroad. This authority is generally exercised, often on an interim basis, in the absence of a legal representative or in emergency situations. Expenses incurred in settling estates are generally paid from estate proceeds or must be paid by the estate representative. The costs of consular time and incidental expenses attributable to estate work are generally allocated to the passport fee because of the circumstances in which these services are provided and because the amount of consular time required usually is small. An additional reason for this approach is that most estates abroad are small and the net proceeds from disposition of the assets would not be sufficient to pay for even the minimal consular time usually involved. Thus, the Schedule has no separate fee for most estate work. In those few estate cases that do require significant consular time or expenditures, however, the Department has determined it is appropriate to charge for consular time and/or to require reimbursement of expenses. (In such cases, overseeing the sale and final disposition of the estate—disbursing funds and carrying out other legally related estate business—is often more appropriately handled by a private attorney or executor.)

Nonimmigrant Visa Services

The Schedule raises to $65 the nonimmigrant Machine Readable Visa (MRV) application processing and Border Crossing Card fees. These fees pay for all costs associated with the processing and issuance of either an MRV or a machine-readable combined border crossing card and nonimmigrant visa (BCC). The five-year border crossing card fee for qualified Mexican children under the age of 15 remains $13, in accordance with Public Law 105-277 (see discussion under BACKGROUND above). Costs not recovered through the $13 fee have been reallocated to the fee for the 10-year MRV/BCC, as authorized by Public Law 105-277.

An exemption from the MRV fee has been added for U.S. government employees traveling on official business. A parallel exemption has been added under the nonimmigrant visa issuance fee, which is reciprocal, and varies according to the fees charged U.S. citizens by the applicant's country of origin. The U.S. government is deemed the primary beneficiary of this exemption because it applies to non-U.S. citizen U.S. government employees who travel to the United States on U.S. government orders to carry out their duties as employees.

Immigrant Visa Services

The Schedule sets one immigrant visa application processing fee of $335 to replace the current Schedule's two separate fees for immigrant visa application processing ($260) and immigrant visa issuance ($65). The Department determined that charging one fee would simplify fee collection and enhance both administrative efficiency and convenience to the applicant. Some of the costs of related services (e.g., Affidavit of Support review, returning resident status determinations) have also been allocated to the immigrant visa application fee to keep the fees for those services at lower levels. Because a single processing fee will be charged, the Department has also reviewed and is changing its regulation regarding the circumstances in which a refund will be allowed (22 CFR 42.71). Since there will be no issuance fee, refunds will no longer be related to whether or not an immigrant visa is issued. Given that the actual work involved in processing an immigrant visa application has already commenced by the time the application fee is paid, the fee will be non-refundable unless the application is not or cannot be adjudicated as a result of action by the U.S. Government.

The current $75 Diversity Visa (DV) Lottery surcharge for the immigrant visa application will increase to $100. The Department has legal authority to establish the surcharge, which is paid only by persons who “win” the lottery and apply for a DV visa, at a level sufficient to cover the entire cost of running the lottery. The full exercise of this authority would lead to a much higher surcharge because the number of winning applicants (roughly 55,000) is much smaller than the total number of lottery entrants (recently about 10 million). The surcharge has been kept below the legally authorized amount. The Department notes that DV applicants must also pay the immigrant visa application processing fee; that the $100 surcharge will represent an increase in this surcharge of 33 percent; and that the $100 surcharge will cover the Department's direct (but not indirect) costs of running the lottery. The Department believes that a $100 surcharge is therefore reasonable. Costs not recovered by the surcharge have been allocated to appropriations.

The Schedule raises to $65 the Affidavit of Support Review Fee, currently $50. This fee is charged domestically for all Affidavits of Support reviewed at the National Visa Center to ensure that they are properly completed before they are forwarded to a consular post for adjudication. The fee has been held below the cost of service; costs not recovered through the fee have been allocated to the immigrant visa application.

Special Visa Services

While higher than current fees, the fees for determining returning resident status ($360, currently $50), and for a transportation letter for legal permanent residents of the U.S. ($300, currently $100) will represent only approximately 50% of the Department's full costs of providing these services. Costs not covered by the fees for these special visa services have been allocated to the immigrant visa application-processing fee. This allocation allows the special visa service fees to be lower and is appropriate given that the users of the special visa services generally are persons who have previously been issued immigrant visas, and that someone issued an immigrant visa may reasonably expect to use such services at some point in the future in an unforeseen situation.

The fee charged for a waiver of the two-year residency requirement for J-visa holders has increased to $230. This fee has been set to recover all of the costs associated with providing this service.

The current $25 fee for fingerprinting, when required in connection with a visa application, will increase to $85 to cover all costs incurred in providing this service abroad, including FBI costs billed to the Department of State for fingerprint processing.

Documentary Services

For documentary services, the Schedule establishes a new fee structure that the Department expects will be easy to administer and that will lower the direct cost to customers. It establishes a consistent per-item fee for all documentary services. Customers requiring a service multiple times as part of a single transaction (e.g., notarization of a bill of sale and five copies, or notarization of three documents required for a single real estate transaction) will be charged one fee for the initial seal and a reduced fee for each subsequent seal. The current fees for documentary services are $55 for notarials, $20 for certifications, $10 for additional certified copies, and $32 for authentications. The Schedule sets a fee of $30 for the first seal for a notarial, certified copy, copy or certified document from the Department's Vital Records Section, and $20 for each additional seal. A fee of $30 is charged for each authentication of a U.S. or foreign official seal or signature. Costs not covered by the fees will be offset by appropriations. The Department notes that there is a long-standing, statutory requirement that consular officers perform notarial services abroad. Such services are available for minimal fees in the United States, and public concern over the Department's notarial fees when they were set in 1998 to ensure that the actual users pay the full cost of service has demonstrated a widespread expectation that notarial and similar services will be available from the U.S. Government to overseas users for fees that are not significantly higher than domestic fees, even if the overseas fee is well below the actual cost of service. Thus, the Department has concluded that allocating part of the cost of notarials to the general taxpayer is appropriate.

Under the Schedule, documentary fee exemptions for U.S. federal, state and local government agencies are combined under one item. One new exemption has been added: No fee will be charged for notarial services performed with respect to endorsing U.S. Savings Bonds Certificates. The U.S. Government is a beneficiary of the U.S. Savings Bond program, and imposing a fee on the individual bondholders for this service in the past has at times adversely affected persons of limited resources, thereby potentially discouraging use of this investment vehicle.

Judicial Assistance Services

The Schedule separates judicial assistance services from documentary services. A fee of $650 is charged for processing letters rogatory, judicial assistance cases under the Foreign Sovereign Immunities Act, and certificates for return of letters rogatory executed by foreign officials. The $650 fee covers the estimated costs incurred in a routine case. A flat rate of $475 is charged for making arrangements for taking one or more depositions that will run continuously in a single location on a single day so that only one set of reservations for facilities, reporting, and other services need be made. This fee also reflects the estimated cost of a normal case. It will be charged again if a deposition for which the fee has been paid is cancelled and rescheduled. When a consular official must also attend or take the deposition or execute a commission to take testimony, the Department proposes to charge, in addition, the hourly rate for the time spent performing this service and for expenses actually incurred. A flat fee of $235 is charged for swearing in witnesses for telephone depositions, reflecting that a consular officer will generally have to reserve an hour of time for this service. If the consular officer must remain on the line while the deposition proceeds, an hourly rate of $235 will be charged for each hour or part thereof over the first hour. The $60 fee for providing seal and certification of depositions is based on an estimate of the average time needed to perform this service.

The Schedule includes two exemptions from fees for judicial assistance services:

—The first applies to U.S. Federal, state, and local government agencies. The Department has determined that it is normally in the interest of the U.S. Government to perform services for other government agencies without assessing fees to those agencies. It streamlines administrative procedures for both agencies and facilitates performance of the task. In some cases, however, the effort required of the consular officer abroad can be extreme, in terms of time and cost. In those cases, the Department reserves the right to recover those costs by charging other agencies for consular time and expenses incurred. The cost of normal services for government agencies will otherwise be recovered through appropriations.

—Under the second exemption, no fee will be charged to execute commissions to take testimony in connection with foreign documents for use in criminal cases when the commission is accompanied by an order of federal court on behalf of an indigent party. The Department has determined that it is in the U.S. Government's interest to perform these services without assessing fees. It streamlines administrative procedures, facilitates performance of the task without imposing bureaucratic obstacles, and is consistent with the government's broad interest in ensuring that criminal defendants get a fair trial.

Services Relating to Vessels and Seamen

The Schedule will recover all costs associated with the processing and issuance of shipping and seamen services by charging the proposed $235 hourly rate for consular time plus any expenses incurred. These services include, but are not limited to, recording a bill of sale of a vessel purchased abroad, renewal of a marine radio license, and issuance of a certificate of American ownership. As these services are not performed on any routine basis, an average fee could not be determined. In paying the hourly rate for consular time, the beneficiary of the service will bear the full cost.

Administrative Services

The fee for setting up and maintaining a trust account increases from $25 to $30. It is Department policy to keep this fee below the cost of service because it is generally provided to individuals who have limited resources or who face unusual obstacles in transferring funds abroad. The remaining costs have been allocated to the passport application fee.

Consular time charges increase to $235 per hour and reflect the actual direct and indirect cost of service as determined by the Cost of Service Study conducted by the Bureau of Consular Affairs. The Department notes that this rate is high in part because maintaining consular officers and facilities abroad, including secure work and living environments, is costly.

Regulatory Findings

Administrative Procedure Act

The Department is publishing this rule as a final rule after it was published as a proposed rule on March 28, 2002 (67 FR 14895), Public Notice 3950.

Regulatory Flexibility Act

The Department of State, in accordance with the Regulatory Flexibility Act (5 U.S.C. 605(b)), has reviewed this regulation and, by approving it, certifies that this rule will not have a significant economic impact on a substantial number of small entities as defined in 5 U.S.C. 601(6).

Unfunded Mandates Reform Act of 1995

This rule will not result in the expenditure by state, local and tribal governments, in the aggregate, or by the private sector, of $100 million or more in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of the United States-based companies to compete with foreign-based companies in domestic and export markets.

Executive Order 12866

The Department of State does not consider this rule to be a “significant regulatory action” under Executive Order 12866, section 3(f), Regulatory Planning and Review. In addition, the Department is exempt from Executive Order 12866 except to the extent that it is promulgating regulations in conjunction with a domestic agency that are significant regulatory actions. The Department has nevertheless reviewed the regulation to ensure its consistency with the regulatory philosophy and principles set forth in that Executive Order. In addition, OMB has been provided with an information copy of the proposed regulation.

Executive Order 13132

This regulation will not have substantial direct effects on the states, on the relationship between the national government and the states, or on the distribution of power and responsibilities among the various levels of government. Therefore, in accordance with section 6 of Executive Order 13132, it is determined that this rule does not have sufficient federalism implications to warrant the preparation of a federalism summary impact statement.

Paperwork Reduction Act

This rule does not impose any new reporting or record-keeping requirements.

Implementation Date

The effective date of this regulation is June 1, 2002. The implementation date for Passport Services fees, Item Numbers 1, 2, 3 and 6, is August 19, 2002, following the peak travel season, and is intended to accommodate the U.S. traveling public.

List of Subjects

22 CFR Part 22

Consular services, Fees, Schedule of fees for consular services, Passports and visas.

22 CFR Part 51

Fees, Passports and visas.

Accordingly, 22 CFR parts 22 and 51 are amended as follows:

PART 22—[AMENDED]

1. The authority citation for part 22 continues to read as follows:

Authority: 8 U.S.C. 1153 note, 1351, 1351 note; 10 U.S.C. 2602(c); 22 U.S.C. 214, 2504(a), 4201, 4206, 4215, 4219; 31 U.S.C. 9701; Pub. L. 105-277, 112 Stat. 2681 et seq.; E.O. 10718, 22 FR 4632, 3 CFR, 1954-1958 Comp., p. 382; E.O. 11295, 31 FR 10603, 3 CFR, 1966-1970 Comp., p. 570.

2. Section 22.1 is revised to read as follows:

§ 22.1 Schedule of fees.

The following table sets forth the U.S. Department of State's schedule of fees for consular services:

Schedule of Fees for Consular Services
Item No. | Fee
Passport and Citizenship Services
1. Passport Execution: Required for first-time applicants and others who must apply in person (implementation 8/19/02) [01—Passport Execution] | $30.
2. Passport Application Services (implementation 8/19/02) for:
(a) Applicants age 16 or over (including renewals) [02—Adult Passport] | $55.
(b) Applicants under age 16 [03—Minor Passport] | $40.
(c) Passport amendments (extension of validity, name change, etc.) [04—Amendment] | No fee.
3. Expedited service: Guaranteed 3-day processing and/or in-person service at a U.S. Passport Agency (implementation 8/19/02; not applicable abroad) [Expedited Service] | $60.
4. Exemptions: The following applicants are exempted from passport fees:
(a) Officers or employees of the United States and their immediate family members (22 U.S.C. 214) and Peace Corps Volunteers and Leaders (22 U.S.C. 2504(a)) proceeding abroad or returning to the United States in the discharge of their official duties [05—Passport Exempt] | No fee.
(b) U.S. citizen seamen who require a passport in connection with their duties aboard an American flag vessel (22 U.S.C. 214) [05— Passport Exempt] | No fee.
(c) Widows, children, parents, or siblings of deceased members of the Armed Forces proceeding abroad to visit the graves of such members (22 U.S.C. 214) [05—Passport Exempt] | No fee.
(d) Employees of the American National Red Cross proceeding abroad as members of the Armed Forces of the United States (10 U.S.C. 2603) [05—Passport Exempt] | No fee.
5. Travel Letter: Provided as an emergency accommodation to a U.S. citizen returning to the United States when the consular officer is unable to issue a passport book (consular time charges, item 75, may apply) [06—U.S.C. Travel Letter] | No fee.
6. File search and verification of U.S. citizenship (implementation 8/19/02): When applicant has not presented evidence of citizenship and previous records must be searched (except for an applicant abroad whose passport was stolen or lost abroad or when one of the exemptions is applicable) [07—PPT File Search] | $45.
7. Application for Report of Birth Abroad of a Citizen of the United States: [08—Report Birth Abroad] | $65.
(Items nos. 8 through 10 vacant)
Overseas Citizens Services
Arrests, Welfare and Whereabouts, and Related Services:
11. Arrest and prison visits | No fee.
12. Assistance regarding the welfare and whereabouts of a U.S. Citizen, including child custody inquiries | No fee.
13. Loan processing:
(a) Repatriation loans | No fee.
(b) Emergency dietary assistance loans | No fee.
Death and Estate Services
14. Assistance to next-of-kin:
(a) After the death of a U.S. citizen abroad (providing assistance in disposition of remains, making arrangements for shipping remains, issuing Consular Mortuary Certificate, and providing up to 20 original Consular Reports of Death) | No fee.
(b) Making arrangements for a deceased non-U.S. citizen family member (providing assistance in shipping or other disposition of remains of a non-U.S. Citizen) [11—Non U.S.C. Death] | Consular time (item 75) plus expenses.
15. Issuance of Consular Mortuary Certificate on behalf of a non-U.S. Citizen [12—Non-U.S.C. Mort Cert] | $60.
16. Acting as a provisional conservator of estates of U.S. Citizens:
(a) Taking possession of personal effects; making an inventory under an official seal (unless significant time and/or expenses incurred) | No fee.
(b) Overseeing the appraisal, sale, and final disposition of the estate, including disbursing funds, forwarding securities, etc. (unless significant time and/or expenses incurred) | No fee.
(c) For services listed in 16(a) or (b) when significant time and/or expenses are incurred [13—Estate Costs] | Consular time (item 75) and/or expenses.
(Items nos. 17 through 20 vacant)
Nonimmigrant Visa Services
21. Nonimmigrant visa application and border crossing card processing fees (per person):
(a) Nonimmigrant visa [21—MRV Processing] | $65.
(b) Border crossing card—10 year (age 15 and over) [22—BCC 10 Year] | $65.
(c) Border crossing card—5 year (under age 15) |
(d) For Mexican citizen if parent or guardian has or is applying for a border crossing card [23—BCC 5 Year] | $13.
22. Exemptions from nonimmigrant visa application processing fee:
(a) Applicants for A, G, C—3, NATO and diplomatic visas as defined in 22 CFR 41.26 [24—MRV Exempt] | No fee.
(b) Applicants for J visas participating in official U.S. Government sponsored educational and cultural exchanges [24—MRV Exempt] | No fee.
(c) Replacement machine-readable visa when the original visa was not properly affixed or needs to be reissued through no fault of the applicant [24—MRV Exempt] | No fee.
(d) Applicants exempted by international agreement as determined by the Department, including members and staff of an observer mission to United Nations Headquarters recognized by the UN General Assembly, and their immediate families [24—MRV Exempt] | No fee.
(e) Applicants travelling to provide charitable services as determined by the Department [24—MRV Exempt] | No fee.
(f) U.S. Government employees travelling on official business [24—MRV Exempt] | No fee.
23. Nonimmigrant visa issuance fee, including border-crossing cards.
[25—NIV Issuance Reciprocal] Reciprocal
24. Exemptions from nonimmigrant visa issuance fee:
(a) An official representative of a foreign government or an international or regional organization of which the U.S. is a member; members and staff of an observer mission to United Nations Headquarters recognized by the UN General Assembly; and applicants for diplomatic visas as defined under item 22(a); and their immediate families [26—NIV Issuance Exempt] | No fee.
(b) An applicant transiting to and from the United Nations Headquarters [26—NIV Issuance Exempt] | No fee.
(c) An applicant participating in a U.S. Government sponsored program [26—NIV Issuance Exempt] | No fee.
(d) An applicant travelling to provide charitable services as determined by the Department [26—NIV Issuance Exempt] | No fee.
(Items Nos. 25 through 30 vacant)
Immigrant and Special Visa Services
31. Filing immigrant visa petition (Collected for INS and subject to change):
(a) Petition to classify status of alien relative for issuance of immigrant Visa [81—INS I—130 Petition] | $130.
(b) Petition to classify orphan as an immediate relative [82—INS I-600 Petition] | $460.
32. Immigrant visa application processing fee (per person) [31—IV Application] | $335.
33. Diversity Visa Lottery surcharge for immigrant visa application (per person applying as a result of the lottery program) [32—DV Processing] | $100.
34. Affidavit of Support Review (only when AOS is reviewed domestically) | $65.
35. Special visa services:
(a) Determining Returning Resident Status [33—Returning Resident] | $360.
(b) Transportation letter for Legal Permanent Residents of U.S. [34—LPR Transportation Letter] | $300.
(c) Waiver of 2 year residency requirement [J Waiver] | $230.
(d) Waiver of immigrant visa ineligibility (collected for INS and subject to change) [83—IV Waiver] | $195.
(e) Refugee or significant public benefit parole case processing [35—Refugee/Parole] | No fee.
(f) U.S. Visa fingerprinting [36—Fingerprints] | $85.
(Item Nos. 36 through 40 vacant)
Documentary Services
41. Providing notarial service:
(a) First service (seal) [41—Notarial] | $30.
(b) Each additional seal provided at the same time in connection with the same transaction [42—Additional Notar] | $20.
42. Certification of a true copy or that no record of an official file can be located (by a post abroad):
(a) First Copy [43—Certified Copy] | $30.
(b) Each additional copy provided at the same time [44—Additional Copy] | $20.
43. Provision of documents, certified copies of documents, and other certifications by the Department of State (domestic):
(a) Documents relating to births, marriages, and deaths of U.S. citizens abroad originally issued by a U.S. Embassy or Consulate | $30.
(b) Issuance of Replacement Report of Birth Abroad | $30.
(c) Certified copies of documents relating to births and deaths within the former Canal Zone of Panama from records maintained by the Canal Zone Government from 1904 to September 30, 1979 | $30.
(d) Certifying a copy of a document or extract from an official passport record | $30.
(e) Certifying that no record of an official file can be located [45—Brth/Mar/Death/No Record] | $30.
(f) Each additional copy provided at same time [46—Additional Cert] | $20.
44. Authentications (by posts abroad):
(a) Authenticating a foreign notary or other foreign official seal or signature | $30.
(b) Authenticating a U.S. Federal, State, or territorial seal | $30.
(c) Certifying to the official status of an officer of the United States Department of State or of a foreign diplomatic or consular officer accredited to or recognized by the United States Government | $30.
(d) Each authentication [47—Authentication] | $30.
45. Exemptions: Notarial, certification, and authentication fees (items 35, 36, and 37) or passport file search fees (item 4) will not be charged when the service is performed:
(a) At the direct request of any Federal Government agency, any State or local government, the District of Columbia, or any of the territories or possessions of the United States (unless significant costs would be incurred) [48—Documents Exempt] | No fee.
(b) With respect to documents to be presented by claimants, beneficiaries, or their witnesses in connection with obtaining Federal, State, or municipal benefits [48—Documents Exempt] | No fee.
(c) For U.S. citizens outside the United States preparing ballots for any public election in the United States or any of its territories [48—Documents Exempt] | No fee.
(d) At the direct request of a foreign government or an international agency of which the United States is a member if the documents are for official noncommercial use [48—Documents Exempt] | No fee.
(e) At the direct request of a foreign government official when appropriate or as a reciprocal courtesy [48—Documents Exempt] | No fee.
(f) At the request of direct hire U.S. Government personnel, Peace Corps volunteers, or their dependents stationed or traveling officially in a foreign country [48—Documents Exempt] | No fee.
(g) With respect to documents whose production is ordered by a court of competent jurisdiction [48—Documents Exempt] | No fee.
(h) With respect to affidavits of support for immigrant visa applications [48—Documents Exempt] | No fee.
(i) With respect to endorsing U.S. Savings Bonds Certificates [48—Documents Exempt] | No fee.
(Item nos. 46 through 50 vacant)
Judicial Assistance Services
51. Processing letters rogatory and Foreign Sovereign Immunities Act (FSIA) judicial assistance cases, including providing seal and certificate for return of letters rogatory executed by foreign officials:
[51—Letters Rogatory] | $650.
[52—FSIA] | $650.
52. Taking depositions or executing commissions to take testimony:
(a) Scheduling/arranging appointments for depositions, including depositions by video teleconference (per daily appointment) [53—Arrange Depo] | $475.
(b) Attending or taking depositions, or executing commissions to take testimony (per hour or part thereof) [54—Depose/Hourly] | $235 per hour plus expenses.
(c) Swearing in witnesses for telephone depositions [55—Telephone Oath] | $235.00.
(d) Supervising telephone depositions (per hour or part thereof over the first hour) [56—Supervise Tel Depo] | $235 per hour plus expenses.
(e) Providing seal and certification of depositions [57—Deposition Cert] | $60.00.
53. Exemptions: Deposition or executing commissions to take testimony. Fees (item 42) will not be charged when the service is performed:
(a) At the direct request of any Federal Government agency, any State or local government, the District of Columbia, or any of the territories or possessions of the United States (unless significant time required and/or expenses would be incurred) [58—Judicial Exempt] | No fee.
(b) Executing commissions to take testimony in connection with foreign documents for use in criminal cases when the commission is accompanied by an order of Federal court on behalf of an indigent party [59—Indigent Test] | No fee.
(Items no. 54 through 60 vacant)
Services Relating to Vessels and Seamen
61. Shipping and Seaman's services: Including but not limited to, recording a bill of sale of a vessel purchased abroad, renewal of a marine radio license, and issuance of certificate of American ownership:
[61—Shipping Bill of Sale] | Consular time (item 75) plus expenses.
[62—Shipping Radio Lic] | Consular time (item 75) plus expenses.
[63—Shipping Cert AM Own] | Consular time (item 75) plus expenses.
[64—Shipping Misc] | Consular time (item 75) plus expenses.
(Item nos. 62 through 70 vacant)
Administrative Services
71. Non-emergency telephone calls [70—Toll Call Cost] [71—Toll Cost Surcharge] | Long distance charge plus $10.
72. Setting up and maintaining a trust account: For 1 year or less to transfer funds to or for the benefit of a U.S. citizen in need in a foreign country [72—OCS Trust] | $30.
73. Transportation charges incurred in the performance of fee and no-fee services when appropriate and necessary [73—Transportation] | Expenses incurred.
74. Return check processing fee [74—Return Check] | $25.
75. Consular time charges: As required by this schedule and for fee services performed away from the office or during after-duty hours (per hour or part thereof/per consular employee) [75—Consular Time] | $235.
76. Photocopies (per page) [76—Photocopy] | $1.
(Items nos. 77 through 80 vacant)

PART 51—[AMENDED]

3. The authority citations for part 51 continues to read as follows:

Authority: 22 U.S.C. 211a; 213, 2651a; 2671(d)(3), 2714 and 3926; 31 U.S.C. 9701; E.O. 11295, 3 CFR, 1966-1970 Comp., p. 570; sec. 236, Pub. L. 106-113, 113 Stat. 1501A-430; 18 U.S.C.1621(a)(2).

4. Section 51.61 is revised to read as follows:

§ 51.61 Passport fees.

Fees, including execution fees, shall be collected for the following passport services in the amounts prescribed in the Schedule of Fees for Consular Services (22 CFR 22.1):

(a) A fee for each passport application filed, which fee shall vary depending on the age of the applicant. The passport application fee shall be paid by all applicants at the time of application, except as provided in § 51.62(a), and is not refundable, except as provided in § 51.63. A person who is denied a passport may request that the application be reconsidered without payment of an additional fee upon the submission, within 90 days after the date of the denial, of documentation not previously presented that is sufficient to establish citizenship or entitlement to a passport.

(b) A fee for execution of the passport application, except as provided in § 51.62 (b), when the applicant is required to execute the application in person before a person authorized to administer oaths for passport purposes. This fee shall be collected as part of the passport application fee at the time of application and is not refundable (see § 51.65). When execution services are provided by an official of a state or local government or of the United States Postal Service, the fee may be retained by that entity to cover the costs of service pursuant to an appropriate agreement with the Department of State.

(c) A fee for expedited services, if any, provided pursuant to § 51.66.

Dated: May 3, 2002.
Grant S. Green,
Under Secretary of State for Management, Department of State.

[FR Doc. 02-12048 Filed 5-15-02; 8:45 am]

BILLING CODE 4710-06-P